DEPARTMENT OF THE TREASURY

Submission for OMB Review; Comment Request

July 26, 2016.

The Department of the Treasury will submit the following information collection requests to the Office of Management and Budget (OMB) for review and clearance in accordance with the Paperwork Reduction Act of 1995, Public Law 104-13, on or after the date of publication of this notice.

DATES: Comments should be received on or before August 31, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Internal Revenue Service (IRS)

OMB Control Number: 1545-0016.

Type of Review: Extension of a currently approved collection.

Title: United States Additional Estate Tax Return.

Estimated Total Annual Burden Hours: 1,678.

OMB Control Number: 1545-0043.

Type of Review: Extension of a currently approved collection.

Title: Consent of Shareholder to Include Specific Amount in Gross Income.

Estimated Total Annual Burden Hours: 385.

OMB Control Number: 1545-0138.

Type of Review: Extension of a currently approved collection.

Title: U.S. Departing Alien Income Tax Statement.

Estimated Total Annual Burden Hours: 17,049.

OMB Control Number: 1545-0212.

Type of Review: Revision of a currently approved collection.

Title: Application for Extension of Time to File Certain Employee Plan Returns.

Estimated Total Annual Burden Hours: 183,273.

OMB Control Number: 1545-0236.

Type of Review: Extension of a currently approved collection.

Title: Form 11-C—Occupational Tax and Registration Return for Wagering.

Form: Form 11-C.

Abstract: Persons who accept taxable wagers use this form for initial registration and annual renewal, and to pay the occupational tax on wagering. Both principals and agents use this form.

Estimated Total Annual Burden Hours: 81,190.

OMB Control Number: 1545-0746.

Type of Review: Revision of a currently approved collection.

Title: LR-100-78 (Final) Creditability of Foreign Taxes.

Estimated Total Annual Burden Hours: 41.

OMB Control Number: 1545-0951.

Type of Review: Extension of a currently approved collection.

Title: Regulations Governing the Performance of Actuarial Services under the Employee Retirement Income Security Act of 1974 (20 CFR 901).

Estimated Total Annual Burden Hours: 4,200.

OMB Control Number: 1545-1130.

Type of Review: Extension of a currently approved collection.

Title: Special Loss Discount Account and Special Estimated Tax Payments for Insurance Companies.

Estimated Total Annual Burden Hours: 19,830.

OMB Control Number: 1545-1144.

Type of Review: Extension of a currently approved collection.

Title: Generation-Skipping Transfer Tax Return for Distributions.

Estimated Total Annual Burden Hours: 980.

OMB Control Number: 1545-1224.

Type of Review: Extension of a currently approved collection.

Title: INTL-112-88 (Final) Allocation and Apportionment of Deduction for State Income Taxes.

Estimated Total Annual Burden Hours: 1,000.

OMB Control Number: 1545-1299.

Type of Review: Extension of a currently approved collection.

Title: IA-54-90 (TD 8459—Final) Settlement Funds.

Estimated Total Annual Burden Hours: 3,542.

OMB Control Number: 1545-1451.

Type of Review: Extension of a currently approved collection.

Title: TD 8712 (Final), Definition of Private Activity Bonds.

Estimated Total Annual Burden Hours: 30,100.

OMB Control Number: 1545-1459.

Type of Review: Revision of a currently approved collection.

Title: Program Sponsor Agreement for Continuing Education for Enrolled Agents.

Estimated Total Annual Burden Hours: 480.

OMB Control Number: 1545-1534.

Type of Review: Extension of a currently approved collection.

Title: REG-252936-96 (TD 8780—Final) Rewards for Information Relating to Violations of Internal Revenue Laws.

Form: Form 8498.

Abstract: Form 8498 is used to: (1) Register as a new provider of continuing educational programs being offered to IRS enrolled agents, enrolled retirement plan agents, and other tax return preparers; (2) annually renew status as an IRS-approved continuing educational provider; and (3) add new programs to an existing IRS-approved provider continuing education curriculum.

OMB Control Number: 1545-1555.

Type of Review: Extension of a currently approved collection.

Title: REG-115795-97 (Final) General Rules for Making and Maintaining Qualified Electing Fund Elections.

Estimated Total Annual Burden Hours: 623.

OMB Control Number: 1545-1702.

Type of Review: Extension of a currently approved collection.

Title: Information Return for Transfers Associated With Certain Personal Benefit Contracts.

Form: Form 8870.

Abstract: Charitable organizations described in Internal Revenue Code section 170(c) or charitable remainder trusts described in Internal Revenue Code section 664(d) file Form 8870 to report premiums paid after February 8, 1999, on certain life insurance, annuity, and endowment contracts (personal benefits contracts).

Estimated Total Annual Burden Hours: 74,200.

OMB Control Number: 1545-1711.

Type of Review: Extension of a currently approved collection.

Title: TD 9273—Stock Transfer Rules: Carryover of Earnings and Taxes (REG-116050-99).

Estimated Total Annual Burden Hours: 1,800.

OMB Control Number: 1545-1724.

Type of Review: Extension of a currently approved collection.

Title: REG-109481-99 (TD 9076—Final) Special Rules Under Section 417(a)(7) for Written Explanations Provided by Qualified Retirement Plans After Annuity Starting Dates.

Estimated Total Annual Burden Hours: 12,500.

OMB Control Number: 1545-1732.

Type of Review: Revision of a currently approved collection.

Title: REG-105946-00 (TD 8995—Final) Mid-Contract Change in Taxpayer.

Estimated Total Annual Burden Hours: 26,500.

OMB Control Number: 1545-1971.

Type of Review: Revision of a currently approved collection.

Title: Household Employment Taxes.

Form: Schedule H (Form 1040).

Abstract: Schedule H (Form 1040) is used to report household employment taxes if one paid cash wages to a household employee and the wages were subject to social security, Medicare, or FUTA taxes, or if one withheld federal income tax.

Estimated Total Annual Burden Hours: 772,245.

OMB Control Number: 1545-2097.

Type of Review: Extension of a currently approved collection.

Title: Reg-111583-07(TD 9405)(Final)—Employment Tax Adjustments; REG-130074-11—Rules Relating to Additional Medicare Tax.

Estimated Total Annual Burden Hours: 16,900,000.

OMB Control Number: 1545-2102.

Type of Review: Extension of a currently approved collection.

Title: Form 13930—Central Withholding Agreement; Form 13920—Directed Withholding and Deposit Verification Form.

Estimated Total Annual Burden Hours: 11,900.

OMB Control Number: 1545-2125.

Type of Review: Extension of a currently approved collection.

Title: REG-143544-04 Regulations Enabling Elections for Certain Transaction Under Section 336(e).

Estimated Total Annual Burden Hours: 1,000.

OMB Control Number: 1545-2149.

Type of Review: Extension of a currently approved collection.

Title: TD 9278—Treatment of Services Under Section 482; Allocation of Income and Deductions From Intangibles; Stewardship Expense.

Estimated Total Annual Burden Hours: 4,500.

OMB Control Number: 1545-2153.

Type of Review: Extension of a currently approved collection.

Title: Notice 2009-83—Credit for Carbon Dioxide Sequestration Under Section 45Q.

Estimated Total Annual Burden Hours: 180.

OMB Control Number: 1545-2154.

Type of Review: Extension of a currently approved collection.

Title: Short Form Request for Individual Tax Return Transcript.

Estimated Total Annual Burden Hours: 870,000.

OMB Control Number: 1545-2171.

Type of Review: Extension of a currently approved collection.

Title: Carryback of Consolidated Net Operating Losses to Separate Return Years (TD 9490—Final).

Estimated Total Annual Burden Hours: 1,000.

OMB Control Number: 1545-2186.

Type of Review: Revision of a currently approved collection.

Title: Basis Reporting by Securities Brokers and Basis Determination for Debt Instruments and Options.

Estimated Total Annual Burden Hours: 694,750.

OMB Control Number: 1545-2235.

Type of Review: Extension of a currently approved collection.

Title: Form 14417—Reimbursable Agreement-Non-Federal Entities; Form 14417-A—Statistics of Income—User Fee.

Estimated Total Annual Burden Hours: 160.

OMB Control Number: 1545-2237.

Type of Review: Extension of a currently approved collection.

Title: RP-141793-11 (Rev. Proc. 2014-49).

Abstract: Revenue Procedure 2014-49 provides temporary relief from certain requirements of § 42 of the Internal Revenue Code for agencies and owners, in the context of a major disaster. It also provides emergency housing relief for individuals who are displaced by a major disaster from their principal residences in certain major disaster areas.

Estimated Total Annual Burden Hours: 1,750.

Brenda Simms,
Treasury PRA Clearance Officer.

[FR Doc. 2016-18046 Filed 7-29-16; 8:45 am]

BILLING CODE 4830-01-P